DEPARTMENT OF TRANSPORTATION

Federal Railroad Administration

[Docket Number FRA-2017-0087]

Petition for Waiver of Compliance

Under part 211 of title 49 Code of Federal Regulations (CFR), this document provides the public notice that by letter received July 15, 2024, TEXRail petitioned the Federal Railroad Administration (FRA) for a waiver of compliance from certain provisions of the Federal railroad safety regulations contained at 49 CFR part 238 (Passenger Equipment Safety Standards). The relevant Docket Number is FRA-2017-0087.

Specifically, TEXRail seeks relief from § 238.309(b)(2), Periodic brake equipment maintenance, regarding the required clean, oil, test, and stencil (COTS) air brake maintenance, for two years due to “the brake system and parts manufacturer delay in production.” TEXRail further stated that the manufacturer, Knorr Air Brake Berlin, “is the only facility qualified to repair our [a]ir [b]rake equipment” and that the relief would allow TEXRail to continue revenue service while the equipment is awaiting the required COTS overhaul. TEXRail asserts that it will ensure the brake systems will remain in proper functioning condition and are safe to operate. Specifically, it will “complete a Tri-annual inspection, minus replacing the actual brake components” and perform a “daily Class 1 brake test.” TEXRail states it will perform a “weekly Teloc download to ensure the brake system is working as intended during the Class 1 Brake Test.”

TEXRail's existing grant of relief in this docket provides a waiver from certain other regulations pertaining to the design of TEXRail's Stadler FLIRT equipment. The equipment was built to current European design and regulatory standards, with modifications and updates for use in the United States.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at www.regulations.gov. Follow the online instructions for submitting comments.

Communications received by December 30, 2024 will be considered by FRA before final action is taken. Comments received after that date will be considered if practicable.

Anyone can search the electronic form of any written communications and comments received into any of the U.S. Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-25081 Filed 10-28-24; 8:45 am]

BILLING CODE 4910-06-P